ENVIRONMENTAL PROTECTION AGENCY

40 CFR Part 180

[EPA-HQ-OPP-2017-0006; FRL-9973-27]

Receipt of Several Pesticide Petitions Filed for Residues of Pesticide Chemicals in or on Various Commodities

AGENCY: Environmental Protection Agency (EPA).

ACTION: Notice of filing of petitions and request for comment.

SUMMARY: This document announces the Agency's receipt of several initial filings of pesticide petitions requesting the establishment or modification of regulations for residues of pesticide chemicals in or on various commodities.

DATES: Comments must be received on or before April 5, 2018.

ADDRESSES: Submit your comments, identified by docket identification (ID) number and the pesticide petition number (PP) of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Robert McNally, Biopesticides and Pollution Prevention Division (7511P), main telephone number: (703) 305-7090, email address: BPPDFRNotices@epa.gov; or Michael Goodis, Registration Division (7505P), main telephone number: (703) 305-7090, email address: RDFRNotices@epa.gov. The mailing address for each contact person is: Office of Pesticide Programs, Environmental Protection Agency, 1200 Pennsylvania Ave. NW, Washington, DC 20460-0001. As part of the mailing address, include the contact person's name, division, and mail code. The division to contact is listed at the end of each pesticide petition summary.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

If you have any questions regarding the applicability of this action to a particular entity, consult the person listed under FOR FURTHER INFORMATION CONTACT for the division listed at the end of the pesticide petition summary of interest.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

3. Environmental justice. EPA seeks to achieve environmental justice, the fair treatment and meaningful involvement of any group, including minority and/or low-income populations, in the development, implementation, and enforcement of environmental laws, regulations, and policies. To help address potential environmental justice issues, the Agency seeks information on any groups or segments of the population who, as a result of their location, cultural practices, or other factors, may have atypical or disproportionately high and adverse human health impacts or environmental effects from exposure to the pesticides discussed in this document, compared to the general population.

II. What action is the Agency taking?

EPA is announcing its receipt of several pesticide petitions filed under section 408 of the Federal Food, Drug, and Cosmetic Act (FFDCA), 21 U.S.C. 346a, requesting the establishment or modification of regulations in 40 CFR part 180 for residues of pesticide chemicals in or on various food commodities. The Agency is taking public comment on the requests before responding to the petitioners. EPA is not proposing any particular action at this time. EPA has determined that the pesticide petitions described in this document contain the data or information prescribed in FFDCA section 408(d)(2), 21 U.S.C. 346a(d)(2); however, EPA has not fully evaluated the sufficiency of the submitted data at this time or whether the data support granting of the pesticide petitions. After considering the public comments, EPA intends to evaluate whether and what action may be warranted. Additional data may be needed before EPA can make a final determination on these pesticide petitions.

Pursuant to 40 CFR 180.7(f), a summary of each of the petitions that are the subject of this document, prepared by the petitioner, is included in a docket EPA has created for each rulemaking. The docket for each of the petitions is available at http://www.regulations.gov.

As specified in FFDCA section 408(d)(3), 21 U.S.C. 346a(d)(3), EPA is publishing notice of the petitions so that the public has an opportunity to comment on these requests for the establishment or modification of regulations for residues of pesticides in or on food commodities. Further information on the petitions may be obtained through the petition summaries referenced in this unit.

III. Amended Tolerances

1. PP 7F8583. (EPA-HQ-OPP-2017-0448). Bayer Crop Science Division, 2 TW Alexander Drive, Durham, NC 27709, requests to amend the tolerance in 40 CFR 180.645 for residues of the herbicide thiencarbazone-methyl in or on wheat, forage at 0.15 parts per million (ppm). The high pressure liquid chromatography/triple stage quadrupole mass spectrometry (LC/MS/MS) is used to measure and evaluate the chemical thiencarbazone-methyl. Contact: RD.

2. PP 7F8590. (EPA-HQ-OPP-2017-0744). Syngenta Crop Protection, LLC, P.O. Box 18300, Greensboro, NC 27419, requests to establish the tolerance in 40 CFR 180.507 for residues of the fungicide, azoxystrobin, in or on Beet, sugar, roots at 5.0 ppm and Vegetable, root, subgroup 1B at 0.5 ppm. The gas chromatography with nitrogen-phosphorus detection (GC-NPD) or in mobile phase by high performance liquid chromatography with ultra-violet detection (HPLC-UV) is used to measure and evaluate the chemical azoxystrobin. Contact: RD.

3. PP 7F8590. (EPA-HQ-OPP-2017-0744). Syngenta Crop Protection, LLC, P.O. Box 18300, Greensboro, NC 27419, requests to amend the tolerances in 40 CFR 180.507 for residues of the fungicide, azoxystrobin by removing the tolerance on Vegetable, root, subgroup 1A at 0.5 ppm. The GC-NPD or in mobile phase by HPLC-UV detection is used to measure and evaluate the chemical azoxystrobin. Contact: RD.

IV. New Tolerance Exemptions for Non-Inerts (Except PIPS)

1. PP 6F8535. (EPA-HQ-OPP-2017-0315). Technology Sciences Group Inc., 712 Fifth St., Suite A, Davis, CA 95616 (on behalf of Lesaffre Yeast Corporation, 7475 W. Main St., Milwaukee, WI 53214), requests to establish an exemption from the requirement of a tolerance in 40 CFR part 180 for residues of the systemic resistance inducer (SRI) Cerevisane (cell walls of Saccharomyces cerevisiae strain LAS117) in or on all food commodities. The petitioner believes no analytical method is needed because it is expected that, when used as proposed, Cerevisane (cell walls of Saccharomyces cerevisiae strain LAS117) would not result in residues that are of toxicological concern. Contact: BPPD.

2. PP 7F8562. (EPA-HQ-OPP-2017-0593). Otsuka Pharmaceutical Co., Ltd., 2-9 Kanda-Tsukasamachi, Chiyoda-ku, Tokyo, 101-8535, Japan (c/o Technology Sciences Group Inc., 712 Fifth St., Suite A, Davis, CA 95616), requests to establish an exemption from the requirement of a tolerance in 40 CFR part 180 for residues of the bactericide bacteriophages active against Xylella fastidiosa in or on all food commodities. The petitioner believes no analytical method is needed because an exemption from the requirement of a tolerance is being proposed. Contact: BPPD.

3. PP 7F8573. (EPA-HQ-OPP-2017-0702). OmniLytics, Inc., 9100 South 500 West, Sandy, UT 84070, requests to establish an exemption from the requirement of a tolerance in 40 CFR part 180 for residues of the bactericide bacteriophage active against Erwinia amylovora in or on apple and pear. The petitioner believes no analytical method is needed because an exemption from the requirement of a tolerance is being proposed. Contact: BPPD.

4. PP 7F8589. (EPA-HQ-OPP-2017-0722). Adjuvants Plus, Inc., 1755 Division Rd. North, Kingsville, Ontario N9Y 2Y8, Canada (c/o Technology Sciences Group Inc., 712 Fifth St., Suite A, Davis, CA 95616), requests to establish an exemption from the requirement of a tolerance in 40 CFR part 180 for residues of the fungicide Clonostachys rosea strain ACM941 in or on all food commodities. The petitioner believes no analytical method is needed because an analytical method for residues is not applicable; it is expected that, when used as proposed, Clonostachys rosea strain ACM941 would not result in residues that are of toxicological concern. Contact: BPPD.

5. PP 7F8594. (EPA-HQ-OPP-2017-0721). Adjuvants Plus, Inc., 1755 Division Rd. North, Kingsville, Ontario N9Y 2Y8, Canada (c/o Technology Sciences Group Inc., 712 Fifth St., Suite A, Davis, CA 95616), requests to establish an exemption from the requirement of a tolerance in 40 CFR part 180 for residues of the fungicide Clonostachys rosea strain 88-710 in or on all food commodities. The petitioner believes no analytical method is needed because an analytical method for residues is not applicable; it is expected that, when used as proposed, Clonostachys rosea strain 88-710 would not result in residues that are of toxicological concern. Contact: BPPD.

V. New Tolerances for Non-Inerts

1. PP 7F8577. EPA-HQ-OPP-2017-0719. Sipcam Agro USA, 2525 Meridian Parkway, Suite 350, Durham, NC 27713, requests to establish a tolerance in 40 CFR part 180.275 for residues of the fungicide, chlorothalonil in or on sugarbeet roots at 0.5 ppm; sugarbeet, dried pulp at 0.05 ppm; sugarbeet, refined sugar at 0.05 ppm; sugarbeet, molasses at 0.05 ppm. The gas chromatography method is used to measure and evaluate the chemical chlorothalonil. Contact: RD.

2. PP 7F8582. (EPA-HQ-OPP-2017-0417). FMC Corporation, 1735 Market Street, Philadelphia, PA 19103 requests to establish a tolerance in 40 CFR 180 for residues of the fungicide, valifenalate, in or on the raw agricultural commodity potato at 0.01 ppm; bulb vegetable crop group 3-07 at 0.40 ppm; celery at 5.0 ppm; cucurbit crop group 9 at 0.30 ppm; fruiting vegetable crop group 8-10 at 0.50 ppm; grape import tolerance at 5.0 ppm; and tomato-wet peel at 0.90 ppm. The LC/MS/MS method is used to measure and evaluate the chemical valifenalate (beta-Alanine, N-[(1-methylethoxy)carbonyl]-L-valyl-3-(4-chlorophenyl)-, methyl ester). Contact: RD.

3. PP 7F8618. (EPA-HQ-OPP-2017-0673). Gowan Company, LLC, P.O. Box 556 Yuma, AZ 85364, requests to establish a tolerance in 40 CFR part 180 for residues of the insecticide fenazaquin, [3-[2-[4-(1,1-dimethylethyl) phenyl] ethoxy] quinazoline], in or on Alfalfa, forage, at 4.0 ppm; Alfalfa, hay, at 15 ppm; Avocado at 0.15 ppm; Beef, fat at 0.05 ppm; Bushberry, subgroup 13-07B at 0.8 ppm; Caneberry, subgroup 13-07A at 0.7 ppm; Corn, field, aspirated grain fractions at 3.0 ppm; Corn, field, forage at 7.0 ppm; Corn, field, grain at 0.09 ppm; Corn, field, refined oil at 0.2 ppm; Corn, field, stover at 40 ppm; Corn, sweet, forage at 9.0 ppm; Corn, sweet, grain at 0.03 ppm; Cotton, gin byproducts at 15.0 ppm; Cotton, undelinted seed at 0.4 ppm; Fruit, citrus group 10-10 at 0.4 ppm; Fruit, low growing berry subgroup 13-07G at 2.0 ppm; Fruit, pome group 11-10 at 0.4 ppm; Fruit, small fruit vine climbing, except fuzzy kiwifruit subgroup 13-07F at 0.7 ppm; Fruit, stone group 12-12 at 1.5 ppm; Grape, raisins at 0.8 ppm; Kidney at 0.01 ppm; Liver at 0.02 ppm; Milk at 0.01 ppm; Mint at 10.0 ppm; Pork, fat at 0.05 ppm; Sheep, fat at 0.05 ppm; Vegetables, cucurbit group 9 at 0.3 ppm; Vegetables, fruiting group 8-10 at 0.3 ppm; Vegetables, legumes, dried shelled pea and bean (except soybean) subgroup 6C at 0.3 ppm; Vegetables, legumes, edible-podded subgroup 6A at 0.4 ppm; and Vegetables, legumes, succulent shelled pea and bean subgroup 6B at 0.02 ppm. LC/MS/MS is used to measure and evaluate the chemical fenazaquin. Contact: RD.

4. PP 7F8623. (EPA-HQ-OPP-2017-0653). Nippon Soda Co., Ltd c/o Nisso America, Inc., 88 Pine Street, 14th Floor, New York, NY 10005 requests to establish a tolerance in 40 CFR for residues of the fungicide picarbutrazox, in or on Crop Group 9, Cucurbit Vegetables at 0.20 ppm, Crop Subgroup 4-16A, Leafy Greens at 10 ppm, Corn, forage at 0.01 ppm, Corn, grain at 0.01 ppm, Corn, stover at 0.01 ppm, Corn, sweet, forage at 0.01 ppm, Corn, sweet, kernel plus cob with husks removed at 0.01 ppm, Corn, sweet, stover at 0.01 ppm, Popcorn, grain at 0.01 ppm, Soybean, forage at 0.01 ppm, Soybean, hay at 0.01 ppm and Soybean, seed at 0.01 ppm. The LC/MS/MS method is used to measure and evaluate the chemical picarbutrazox (tert-butyl (6-{[(Z)-(1-methyl-1H-5-tetrazolyl) (phenyl)methylene]aminooxymethyl}-2-pyridyl)carbamate) and its metabolite TZ-1E (IUPAC: tert-butyl (6-{[(E)-(1-methyl-1H-5-tetrazolyl) (phenyl)methylene]aminooxymethyl}-2-pyridyl) carbamate). Contact: RD.

Authority: 21 U.S.C. 346a.

Dated: January 29, 2018.
Hamaad A. Syed,
Acting Director, Information Technology and Resources Management Division, Office of Pesticide Programs.

[FR Doc. 2018-04522 Filed 3-5-18; 8:45 am]

BILLING CODE 6560-50-P